DEPARTMENT OF AGRICULTURE

Submission for OMB Review; Comment Request

August 6, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by September 11, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: NAHMS Emergency Epidemiologic Investigation.

OMB Control Number: 0579-0376.

Summary of Collection: Collection and dissemination of animal health data and information is mandated by 7 U.S.C. 391, the Animal Industry Act of 1884, which established the precursor of the Animal and Plant Health Inspection Service (APHIS), Veterinary Services, the Bureau of Animal Industry. Legal requirements for examining and reporting on animal disease control methods were further mandated by 7 U.S.C. 8308, 8314 of the Animal Health Protection Act, “Detection, Control, and Eradication of Disease and Pests,” May 13, 2002. Emergency epidemiologic investigations will allow Veterinary Services Officials to rapidly implement prevention and control measures, keep the public informed to reduce fear or panic, and keep international markets open by informing trading partners.

Need and Use of the Information: The primary objective of the National Animal Health Monitoring System's (NAHMS) emergency epidemiologic investigation is to provide for the prevention and control of animal disease conditions and protect the U.S. livestock population from the introduction and spread of domestic, emerging, zoonotic, and foreign animal disease. APHIS will collect information using a questionnaire or telephone interview or direct interview. APHIS will use the data collected to (1) Identify the scope of the problem (2) Define and describe the affected population and the susceptible population (3) Predict or detect trends in disease occurrence and movement (4) Understand the risk factors for disease (5) Estimate the cost of disease control and develop intervention options (6) Provide parameters for mathematical models of animal disease to evaluate potential control scenarios (7) Make recommendation for disease control (8) Provide lessons learned and guidance on the best methods to avoid future outbreaks (9) Identify areas for further research e.g. mechanisms of disease transfer, vaccine technology, and diagnostic testing needs.

Description of Respondents: Business or other for-profit.

Number of Respondents: 8,000.

Frequency of Responses: Reporting: On occasion.

Total Burden Hours: 6.077.

Ruth Brown,
Departmental Information Collection Clearance Officer.

[FR Doc. 2014-18957 Filed 8-11-14; 8:45 am]

BILLING CODE 3410-34-P